DEPARTMENT OF THE INTERIOR

Bureau of Land Management

43 CFR Part 3160

RIN 1004-AD80

Onshore Oil and Gas Operations; Correction

AGENCY: Bureau of Land Management, Interior.

ACTION: Correcting amendment.

SUMMARY: This document contains a correcting amendment to a final rule reorganizing regulations of the Bureau of Land Management (BLM) relating to onshore oil and gas operations, which was published in the Federal Register of Friday, February 20, 1987 (52 FR 5384). The amendment corrects an error in a cross-reference.

DATES: Effective date December 22, 2005.

FOR FURTHER INFORMATION CONTACT: Ted Hudson, 202-452-5042. Individuals who use a telecommunications device for the deaf (TDD) may contact him individually through the Federal Information Relay Service at 1-800-877-8339, 24 hours a day, seven days a week.

SUPPLEMENTARY INFORMATION:

Background

The regulations that are the subject of this correcting amendment have been in effect for more than 20 years. They pertain specifically to onshore oil and gas operations programs, and particularly to the penalty provision for knowingly submitting false, misleading, or inaccurate reports or other information required by the regulations, taking oil or gas from a Federal or Indian lease without authority, or receiving such oil or gas knowing or having reason to know it was stolen or unlawfully diverted or removed from a Federal or Indian lease site.

Need for Correction

When a final rule redesignated and revised the pertinent sections in 1987, at 52 FR 5394, it created an error in a cross-reference. This error is misleading and needs clarification. The provision assigns a criminal penalty for an act for which a civil penalty is prescribed in another section, referring to that other section by number. However, the section and paragraph number stated, section 3163.4-1(b)(6), does not exist in the current regulations, having been redesignated as section 3163.2(f) in the 1987 rule. The 1987 rule failed to adjust the cross-reference, which now needs to be corrected to eliminate confusion.

List of Subjects in 43 CFR Part 3160

Government contracts; Indians—lands; Mineral royalties; Oil and gas exploration; Penalties, Public lands—mineral resources; Surety bonds.

Accordingly, 43 CFR part 3160 is corrected by making the following amendment:

PART 3160—ONSHORE OIL AND GAS OPERATIONS

1. The authority citation for part 3160 continues to read as follows:

Authority: 25 U.S.C. 396d and 2107; 30 U.S.C. 189, 306, 359, and 1751; and 43 U.S.C. 1732(b), 1733, and 1740.

Subpart 3163—Noncompliance, Assessments, and Penalties

2. Revise section 3163.3 to read as follows:

§ 3163.3 Criminal penalties.

Any person who commits an act for which a civil penalty is provided in § 3163.2(f) shall, upon conviction, be punished by a fine of not more than $50,000, or by imprisonment for not more than 2 years, or both.

Dated: December 7, 2005.
Chad Calvert,
Acting Assistant Secretary of the Interior.

[FR Doc. 05-24371 Filed 12-21-05; 8:45 am]

BILLING CODE 4310-84-M